POSTAL SERVICE

39 CFR Part 551

Semipostal Stamp Program

AGENCY: Postal Service.

ACTION: Final rule.

SUMMARY: This final rule clarifies regulations relating to the determination of costs to be offset from differential revenue.

DATES: The final rule is effective February 9, 2005.

FOR FURTHER INFORMATION CONTACT: Cindy Tackett, (703) 292-3980.

SUPPLEMENTARY INFORMATION: Semipostal stamps are intended to raise funds for specified causes. The difference between the sales price of a semipostal stamp and its postage value (the differential) constitutes a contribution to a specified cause. The Postal Service is permitted to retain an amount from the differential to cover its reasonable administrative costs.

Section 551.8 sets forth the Postal Service's policy to recover from the differential those costs determined to be attributable to the semipostal and that would not normally be incurred for commemorative stamps having similar sales objectives; physical characteristics; and marketing, promotional, and public relations activities. Under current regulations published in 39 CFR 551.8:

(e) Cost items recoverable from the differential revenue may include, but are not limited to, the following:

(1) Packaging costs in excess of the cost to package comparable stamps;

(2) Printing costs of flyers and special receipts;

(3) Costs of changes to equipment;

(4) Costs of developing and executing marketing and promotional plans in excess of the cost for comparable stamps;

(5) Other costs specific to the semipostal stamp that would not normally have been incurred for comparable stamps; and

(6) Costs in paragraph (g) of this section that materially exceed those that would normally have been incurred for comparable stamps.

The final rule deletes the word “may” from the introductory paragraph to subsection (e) of 39 CFR 551.8. The deletion of the word “may” clarifies that costs that are recovered from the differential include, but are not limited to, packaging costs in excess of those for comparable stamps, printing costs for flyers or special receipts, costs of changes to equipment, costs of developing and executing marketing and promotional plans in excess of those for comparable stamps, and other costs that would not normally have been incurred for comparable stamps.

List of Subjects in 39 CFR Part 551

Administrative practice and procedure, Postal Service.

The Amendment

For the reasons set out in this document, the Postal Service hereby amends 39 CFR part 551 as follows:

PART 551—SEMIPOSTAL STAMP PROGRAM

1. The authority citation for 39 CFR part 551 continues to read as follows:

Authority: 39 U.S.C. 101, 201, 203, 401, 403, 404, 410, 414, 416.

2. Revise paragraph (e) introductory text in § 551.8 to read as follows:

§ 551.8 Cost offset policy.

* * * * *

(e) Cost items recoverable from the differential revenue include, but are not limited to, the following:

* * * * *

Neva Watson,
Attorney, Legislative.

[FR Doc. 05-2467 Filed 2-8-05; 8:45 am]

BILLING CODE 7710-12-P